DEPARTMENT OF ENERGY

Federal Energy Regulatory Commission

Notice of FERC Staff Attendance at a Meeting of PJM Interconnection, L.L.C.

March 31, 2006.

The Federal Energy Regulatory Commission hereby gives notice that members of its staff may attend the meeting noted below of the PJM Interconnection, L.L.C. The attendance by staff is part of the Commission's ongoing outreach efforts. Regional Planning Process Working Group (RPPWG), April 5, 2006, 10 a.m.-3 p.m. (EDT), Spencer Hotel, 700 King Street, Wilmington, DE 19801.

The discussion may address matters at issue in the following proceedings:

Docket Nos. ER05-1410 and EL05-148, PJM Interconnection, L.L.C.

Docket No. ER06-456, PJM Interconnection, L.L.C.

Docket No. EL06-50, American Electric Power Service Corporation.

The meeting is open to the public.

For additional information, contact Morris Margolis, Office of Energy Markets and Reliability at 202-502-8611 or by e-mail at morris.margolis@ferc.gov.

Magalie R. Salas,
Secretary.

[FR Doc. E6-5096 Filed 4-6-06; 8:45 am]

BILLING CODE 6717-01-P